FEDERAL COMMUNICATIONS COMMISSION

[OMB 3060-0185 and OMB 3060-0214]

Information Collections Approved by the Office of Management and Budget

AGENCY: Federal Communications Commission.

ACTION: Notice.

SUMMARY: The Federal Communications Commission (FCC) has received Office of Management and Budget (OMB) approval for a non-substantive and non-material change to a currently approved public information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION: The total annual reporting burdens and costs for the respondents are as follows:

OMB Control Number: 3060-0185.

OMB Approval Date: December 4, 2018.

OMB Expiration Date: July 31, 2020.

Title: Section 73.3613, Availability of Contracts.

Form Number: N/A.

Respondents: Business or other for-profit entities and Not-for-profit institutions.

Number of Respondents and Responses: 2,400 respondents; 2,400 responses.

Estimated Time per Response: 0.25 to 0.5 hours.

Frequency of Response: On-occasion reporting requirement, Recordkeeping requirement, Third-party disclosure requirement.

Obligation to Respond: Required to obtain or retain benefits. The statutory authority for this information collection is contained in sections 154(i) and 303 the Communications Act of 1934, as amended.

Total Annual Burden: 975 hours.

Total Annual Cost: $ 135,000.

Nature and Extent of Confidentiality: There is no need for confidentiality with this information collection.

Privacy Act: No impact(s).

Needs and Uses: The information collection requirements included under OMB Control Number 3060-0185 require that commercial and noncommercial AM, FM, TV, and international broadcast stations make station contracts and other documents available to the FCC as set forth in 47 CFR 73.3613. The FCC received approval from OMB for a non-substantive and non-material change to the information collection under OMB Control No. 3060-0185 as a result of a recent rulemaking discussed below.

On October 23, 2018, the FCC adopted and released the Filing of Contracts Report & Order, FCC 18-145 (Order), as part of the FCC's ongoing Modernization of Media Regulation Initiative. The Order advances the FCC's goal of eliminating outdated and unnecessary regulatory burdens that can impede competition and innovation in media markets.

In the Order, the FCC revised Section 73.3613 to eliminate the requirement that licensees and permittees of commercial and noncommercial AM, FM, TV, and international broadcast stations routinely file paper copies of station contracts and other documents with the FCC within 30 days of executing such documents. Rather than continuing to require routine paper filings, the FCC will rely instead on its existing online public inspection file rules as discussed in the Order and its ability to obtain the documents from licensees and permittees upon request as needed.

In addition to eliminating the routine paper filing requirement for Section 73.3613 documents, the FCC also eliminated a redundant disclosure requirement pertaining to certain Section 73.3613 documents and expanded an existing redaction allowance for confidential or proprietary information in Section 73.3613 documents. Unredacted copies of the documents must be provided to the FCC upon request. The revised requirements will take effect as stated in the summary of the Order, published at 83 FR 65551, on December 21, 2018.

OMB Control Number: 3060-0214.

OMB Approval Date: December 6, 2018.

OMB Expiration Date: March 31, 2021.

Title: Sections 73.3526 and 73.3527, Local Public Inspection Files; Sections 73.1212, 76.1701 and 73.1943, Political Files.

Form Number: N/A.

Respondents: Business or other for profit entities; Not for profit institutions; State, Local or Tribal government; Individuals or households.

Number of Respondents and Responses: 24,013 respondents; 63,261 responses.

Estimated Time per Response: 1 to 52 hours.

Frequency of Response: On-occasion reporting requirement, Recordkeeping requirement, Third-party disclosure requirement.

Obligation to Respond: Required to obtain or retain benefits. The statutory authority for this information collection is contained in sections 151, 152, 154(i), 303, 307 and 308 of the Communications Act of 1934, as amended.

Total Annual Burden: 2,067,853 hours.

Total Annual Cost: $27,168.

Nature and Extent of Confidentiality: Most of the documents comprising the public file consist of materials that are not of a confidential nature. With respect to any such documents that may contain proprietary trade secrets and confidential information, the FCC has instituted procedures to protect the confidentiality of any such information to the extent permitted by law. For example, licensees are explicitly authorized to redact information from contracts for the joint sale of advertising time that is confidential or proprietary in nature, and the requirement to disclose other SSAs also allows for the redaction of information that is confidential or proprietary in nature. Respondents complying with the information collection requirements may request that the information they submit be withheld from disclosure. If confidentiality is requested, such requests will be processed in accordance with the FCC's rules, 47 CFR 0.459.

Privacy Act: The FCC prepared a system of records notice (SORN), FCC/MB-2, “Broadcast Station Public Inspection Files,” that covers the PII contained in the broadcast station public inspection files located on the FCC's website.

Needs and Uses: The information collection requirements included under OMB Control Number 3060-0214 require that commercial and noncommercial broadcast stations maintain for public inspection a file containing the material set forth in 47 CFR 73.3526 and 73.3527. The FCC received approval from OMB for a non-substantive and non-material change to the information collection under OMB Control No. 3060-0214 as a result of a recent rulemaking discussed below.

On October 23, 2018, the FCC adopted and released the Filing of Contracts Report & Order, FCC 18-145 (Order), as part of the FCC's ongoing Modernization of Media Regulation Initiative. The Order advances the FCC's goal of eliminating outdated and unnecessary regulatory burdens that can impede competition and innovation in media markets. In the Order, the FCC eliminated the requirement that licensees and permittees of commercial and noncommercial AM, FM, TV, and international broadcast stations routinely file paper copies of station contracts and other documents with the FCC within 30 days of executing such documents. Rather than continuing to require routine paper filings, the FCC will rely instead on its existing online public inspection file (OPIF) rules and its ability to obtain the documents from licensees and permittees upon request, as discussed in the Order. The existing OPIF rules already require licensees and permittees of commercial and noncommercial AM, FM, and TV stations to make the relevant documents available to the FCC and the public electronically via the OPIF.

To ensure that the FCC and the public continue to have timely access to the relevant documents, the FCC revised Sections 73.3526(e) and 73.3527(e) to require that licensees and permittees update the documents in the OPIF within the same 30-day timeframe previously required under the eliminated paper filing requirement. The FCC also revised Sections 73.3526(e)(5) and 73.3527(e)(4) to require that licensees and permittees that list the required documents in the OPIF include on their list all of the information that they are already required provide for such documents on broadcast ownership reports. In addition, the FCC expanded an existing redaction allowance for confidential or proprietary information in documents that may contain proprietary trade secrets and confidential information. The revised requirements will take effect as stated in the summary of the Order, published at 83 FR 65551, on December 21, 2018.

Federal Communications Commission.
Marlene Dortch,
Secretary, Office of the Secretary.

[FR Doc. 2019-00970 Filed 2-4-19; 8:45 am]

BILLING CODE 6712-01-P